DEPARTMENT OF HOMELAND SECURITY

Coast Guard

33 CFR Part 165

[Docket Number USCG-2025-0842]

RIN 1625-AA87

Security Zone; Lower Mississippi River, Mile Marker 96.8 to 97.5 Above Head of Passes, New Orleans, LA—Gretna Heritage Festival

AGENCY: Coast Guard, DHS.

ACTION: Temporary final rule.

SUMMARY: The Coast Guard is establishing a temporary security zone for all navigable waters within 350 yards of the right descending Bank (RDB) of the Lower Mississippi River (LMR) Mile Marker (MM) 96.8 to MM 97.5, Above Head of Passes (AHP), New Orleans, LA. This security zone is necessary to provide security and protection for events taking place on or adjacent to the LMR for Gretna Heritage Festival. No person or vessel may enter this security zone unless authorized by the Captain of the Port, New Orleans (COTP) or a designated representative.

DATES: This rule is effective from 3 p.m. on October 3, 2025, through 10 p.m. on October 5, 2025.

ADDRESSES: To view documents mentioned in this preamble as being available in the docket, go to https://www.regulations.gov, type USCG-2025-0842 in the search box and click “Search.” Next, in the Document Type column, select “Supporting & Related Material.”

FOR FURTHER INFORMATION CONTACT: If you have questions about this rule, call or email Lieutenant Commander Jacob Gamble, Sector New Orleans, U.S. Coast Guard; 504-269-7251, Jacob.S.Gamble@uscg.mil.

SUPPLEMENTARY INFORMATION:

I. Table of Abbreviations

AHP Above Head of Passes

CFR Code of Federal Regulations

DHS Department of Homeland Security

FR Federal Register

LMR Lower Mississippi River

MM Mile Marker

NPRM Notice of proposed rulemaking

RDB Right Descending Bank

§ Section

U.S.C. United States Code

II. Background and Authority

The Coast Guard received notice that the annual Gretna Fest will occur from October 3, 2025 through October 5, 2025. The event will be held along the Mississippi River in the vicinity of a permanently established security zone from MM 94 to MM 97, 33 CFR 165.846. However, for this particular event, the security zone area must be extended beyond the boundary of the permanent zone, to MM 97.5. Therefore, the COTP is issuing this rule under the authority in 46 U.S.C. 70051 and 70124, which is needed to protect personnel, vessels, and the marine environment in the navigable waters within the security zone.

The Coast Guard is issuing this temporary rule without prior notice and comment. As is authorized by 5 U.S.C. 553(b)(B), the Coast Guard finds that good cause exists for not publishing a notice of proposed rulemaking (NPRM) with respect to this rule because it is impracticable and contrary to the public interest. This temporary security zone must be established by October 3, 2025 and there is insufficient time to solicit and respond to public comments.

For the same reasons, the Coast Guard finds that under 5 U.S.C. 553(d)(3), good cause exists for making this rule effective less than 30 days after publication in the FR.

III. Discussion of the Rule

This rule establishes a temporary security zone starting 3 p.m. on October 3, 2025, through 10 p.m. on October 5, 2025. The security zone will cover all navigable waters within 350 yards of the RDB of the LMR MM 96.8 to MM 97.5, AHP, New Orleans, LA. The temporary security zone is intended to protect personnel, vessels, and the marine environment in these navigable waters during the event. No vessels or persons will be permitted to enter the security zone without obtaining permission from the COTP or the COTP's designated representative.

IV. Regulatory Analyses

We developed this rule after considering numerous statutes and Executive orders related to rulemaking. Below we summarize our analyses based on a number of these statutes and Executive orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

Under section 213(a) of the Small Business Regulatory Enforcement Fairness Act of 1996 (Pub. L. 104-121), if this rule will affect your small business, organization, or governmental jurisdiction and you have questions contact the person listed in the FOR FURTHER INFORMATION CONTACT section. Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule establishes a temporary security. It is categorically excluded from further review under paragraph L60(a) of Appendix A, Table 1 of DHS Instruction Manual 023-01-001-01, Rev. 1. A Record of Environmental Consideration supporting this determination is available in the docket.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 33 CFR 165.T08-0842 to read as follows:

§ 165.T08-0842 Security Zone; Lower Mississippi River, Mile Marker 96.8 to 97.5 Above Head of Passes, New Orleans, LA.

(a) Location. The following area is a security zone: All navigable waters within 350 yards of the right descending bank (RDB) of the Lower Mississippi River from mile marker (MM) 96.8 to MM 97.5, NAD83 datum, Above Head of Passes in New Orleans, LA.

(b) Definitions. As used in this section, designated representative means a Coast Guard Patrol Commander, including a Coast Guard coxswain, petty officer, or other officer operating a Coast Guard vessel and a Federal, State, and local officer designated by or assisting the Captain of the Port Sector New Orleans (COTP) in the enforcement of the security zone.

(c) Regulations. (1) Under the general security zone regulations in subpart D of this part, you may not enter the security zone described in paragraph (a) of this section unless authorized by the COTP or the COTP's designated representative.

(2) To seek permission to enter, contact the COTP or a designated representative by telephone at (504) 365-2545 or VHF-FM Channel 16 or 67. Those in the security zone must transit at their slowest speed and comply with all lawful orders or directions given to them by the COTP or a designated representative.

(d) Enforcement Period. This section will be enforced from 3 p.m. on October 3, 2025, through 10 p.m. on October 5, 2025.

Dated: September 26, 2025.
M.A. Burnham,
Captain, U.S. Coast Guard, Acting Captain of the Port Sector New Orleans.

[FR Doc. 2025-19115 Filed 9-30-25; 8:45 am]

BILLING CODE 9110-04-P